FEDERAL TRADE COMMISSION

RIN 3084-AA94

Notice of Federal Trade Commission Publication Incorporating Model Forms and Procedures for Identity Theft Victims

AGENCY: Federal Trade Commission (Commission).

ACTION: Notice of Federal Trade Commission publication incorporating model forms and procedures for identity theft victims.

SUMMARY: The Fair and Accurate Credit Transactions Act of 2003 (FACT Act or the Act), amending the Fair Credit Reporting Act (FCRA), requires the Commission, in consultation with the Federal banking agencies and the National Credit Union Administration, to develop a model form and procedures to be used by identity theft victims for contacting and informing creditors and consumer reporting agencies of the fraud. In this document, the Commission issues a notice of its publication of guidance containing such model forms and procedures.

DATES: Effective Date: This notice is effective on May 2, 2005.

ADDRESSES: Requests for copies of this notice should be sent to the Commission's Public Reference Branch, Room 130, Federal Trade Commission, 600 Pennsylvania Avenue, NW., Washington, DC 20580. This notice is also available at the Commission's Web site, www.ftc.gov.

FOR FURTHER INFORMATION CONTACT: Betsy Broder, Assistant Director, (202) 326-3228, and Naomi B. Lefkovitz, Attorney, (202) 326-3228, Division of Planning and Information, Bureau of Consumer Protection, Federal Trade Commission, 600 Pennsylvania Avenue, NW., Washington, DC 20580.

SUPPLEMENTARY INFORMATION: The FACT Act was signed into law on December 4, 2003. Public Law 108-159, 117 Stat. 1952. Portions of the Act amend the FCRA to enhance consumers' ability to resolve problems caused by identity theft. Section 153 of the Act (section 621(f)(2) of the FCRA), requires the Commission, in consultation with the Federal banking agencies and the National Credit Union Administration, to develop a model form and procedures to be used by identity theft victims for contacting and informing creditors and consumer reporting agencies of the fraud.

Identity theft can occur in various forms, including the unauthorized use of existing accounts or the opening of new accounts. The steps that victims need to take to resolve their problems may vary depending on the type of identity theft. The Commission has published guidance for victims, which describes the different types of identity theft problems that victims can confront and the best means of recovery. This guidance includes the ID Theft Affidavit and sample letters as well as a description of the circumstances under which victims would use a particular form to contact creditors or consumer reporting agencies.¹

¹ The guidance does not substantially modify any existing “collections of information” as this term is defined under the Paperwork Reduction Act, 44 U.S.C. 3506. The FTC has already obtained approval from the Office of Management and Budget (“OMB”) for certain disclosures described in the FTC's guidance materials. The filing of identity theft complaints with the FTC is included in the FTC's clearance for administrative activities (OMB Control Number 3084-0047). In addition, the FTC obtained OMB clearance for the disclosure obligations resulting from its rulemaking on identity theft definitions (OMB Control Number 3084-0129). See 69 FR 63,922, 63,933 (Nov. 3, 2004).

For example, an identity theft victim can use the ID Theft Affidavit to dispute with a creditor an account opened fraudulently in the victim's name. Many creditors have agreed voluntarily to accept this standard-form affidavit to resolve such disputes. The guidance also provides sample letters that an identity theft victim can use when disputing with a creditor fraudulent charges to an existing account. Finally, the guidance offers victims sample letters that they can use, in combination with an “Identity Theft Report,” ² when contacting a consumer reporting agency to block fraudulent accounts from their credit reports.

² To obtain an “Identity Theft Report,” the guidance advises consumers to file a report with a local, state, or federal law enforcement agency, such as the local police, the State Attorney General, the U.S. Secret Service, the FTC, or the U.S. Postal Inspection Service. The “Identity Theft Report” is comprised of this law enforcement report, in combination with specific information about the circumstances of the consumer's identity theft and any additional information or documentation that a creditor or consumer reporting agency reasonably requests for the purpose of determining the validity of the consumer's claim. See 16 CFR 603.3.

This guidance, Take Charge: Fighting Back Against Identity Theft, is available at www.consumer.gov/idtheft or by writing to: FTC, Consumer Response Center, Room 130-B, 600 Pennsylvania Avenue, NW., Washington, DC 20580.

For several years, the Take Charge booklet (previously entitled ID Theft: When Bad Things Happen to Your Good Name) has been a straightforward and enormously successful communication tool that has been well-received by victims and other consumers, government agencies, industry, consumer groups, and law enforcement. The FTC staff regularly revises the booklet with the most up-to-date information on identity theft recovery, based on contacts with each of those groups. It recently has been updated to include the new FACT Act rights. Identity theft takes many forms, and victims have several avenues to recovery. The Take Charge booklet offers consumers and business meaningful guidance and useful tools for resolving the many different issues facing identity theft victims, yet it remains flexible enough to respond to the always changing circumstances of this crime. The Commission believes that publication of the revised booklet represents the best method of complying with the Act's model form and procedures requirement.

As set forth under section 153 of the FACT Act (section 621(f)(2) of the FCRA), the Commission has consulted with the Federal banking agencies and the National Credit Union Administration. Such consultation and this notice of the Commission's publication containing model forms and procedures for identity theft victims fulfills the Commission's statutory obligation.

By direction of the Commission.
Donald S. Clark,
Secretary.

[FR Doc. 05-8376 Filed 4-26-05; 8:45 am]

BILLING CODE 6750-01-P